DEPARTMENT OF LABOR

Office of the Secretary

Submission for OMB Review; Comment Request

June 11, 2003.

The Department of Labor (DOL) has submitted the following public information collection requests (ICR's) to the Office of Management and Budget (OMB) for review and approval in accordance with the Paperwork Reduction Act of 1995 (Pub. L. 104-13, 44 U.S.C. Chapter 35). A copy of the ICR's, with applicable supporting documentation, may be obtained by calling the Department of Labor. To obtain documentation, contact Vanessa Reeves on 202-693-4121 (this is not a toll-free number) or E-Mail: reeves.vanessa2@dol.gov.

Comments should be sent to Office of Information and Regulatory Affairs, Attn: OMB Desk Officer for the Employee Benefits Security Agency, Office of Management and Budget, Room 10235, Washington, DC 20503 (202-395-7316/this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Agency: Employee Benefits Security Administration (EBSA).

Type of Review: Extension of a currently approved collection.

Title: Prohibited Transaction Class Exemptions for Multiple Employer & Multiple Employer Apprenticeship Plans, PTCE 76-1, PTCE 77-10, PTCE 78-6.

OMB Number: 1210-0058.

Affected Public: Business or other for-profit and individuals or households.

Frequency: On occasion.

Type of Response: Recordkeeping.

Number of Respondents: 4,810.

Information collection requirements | Annual responses | Average response time (hours) | Annual burden hours
PTCE 76-1, Part A | 0 | 0.00 | 0
PTCE 76-1, Part B | 58 | 0.25 | 15
PTCE 76-1, Part C | 4,623 | 0.25 | 1,156
PTCE 77-10 | 0 | 0.00 | 0
PTCE 78-6 | 645 | 0.08 | 54
Total | 5,326 |  | 1,225

Total Annualized Capital/Startup Costs: $0.

Total Annual Costs (operating/maintaining systems or purchasing services): $0.

Description: Prohibited Transaction Class Exemption 76-1, approved under OMB No. 1210-0058, provides an exemption, under specified conditions, from certain of ERISA's prohibited transaction provisions at section 406(a) for various transactions involving multi-employer or multi employer plans (together, multiple employer plans). Part A of PTCE 76-1 provides that an agreement between a plan and an employer for extending the time for a contribution must be in writing. Part B provides that permanent financing for construction loans involving plans and participating employers must be in writing, and records must be maintained for six years. Part C permits plans to lease office space and provide administrative services or sell goods to a participating employer, employee organization, participating employer association or to another multiple employer plan that is a party in interest. A related exemption, PTCE 77-10, also approved under OMB No. 1210-0058, complements Part C of PTCE 76-1 by providing an exemption from sections 406(a) and 407(a) of ERISA.

The Department proposes to combine the information collection under PTCE 76-1 with the information collection in PTCE 78-6, currently approved under OMB No. 1210-0080, by incorporating the information collection provisions of PTCE 78-6 into the revision ICR number OMB No. 1210-0058 and allowing the control number for PTCE 78-6 to expire. PTCE 78-6 provides an exemption to multiple employer apprenticeship plans for the purchase of personal property or the lease of real property by a plan to a contributing employer. The Department believes that the public will benefit by having the opportunity to comment on the three information collection provisions at the same time because the three exemptions are closely related in that they provide relief from prohibited transactions for multiple employer plans or multiple employer apprenticeship plans and they have the same recordkeeping provisions.

Agency: Employee Benefits Security Administration (EBSA).

Type of Review: Extension of a currently approved collection.

Title: Bank Collective Investment Funds; Prohibited Transaction Class Exemption 91-38.

OMB Number: 1210-0082.

Affected Public: Business or other for-profit; individuals or households; and not-for-profit institutions.

Frequency: On occasion.

Type of Response: Recordkeeping.

Number of Respondents: 1,036.

Number of Annual Responses: 1,036.

Estimated Time Per Responses: 5 minutes.

Total Burden Hours: 86.

Total Annualized Capital/Startup Costs: $0.

Total Annual Costs (operating/maintaining systems or purchasing services): $0.

Description: Prohibited Transaction Class Exemption 91-38 provides an exemption from the prohibited transaction provisions of ERISA for certain transactions between a bank collective investment fund and persons who are parties in interest with respect to a plan provided that the plan's participation in the collective investment fund does not exceed a specific percentage of the total assets in the collective investment fund. To insure that the exemption is not abused, that the rights of the participants and beneficiaries are protected, and that a bank is complying with the conditions of the exemption, the Department requires records pertaining to the exempted transaction to be maintained by the bank for six years. The recordkeeping requirement is the subject of this proposed extension of an ICR.

Agency: Employee Benefits Security Administration (EBSA).

Type of Review: Extension of a currently approved collection.

Title: Prohibited Transaction Class Exemptions 90-1; Pooled Separate Accounts.

OMB Number: 1210-0083.

Affected Public: Business or other-for profit; individuals or households; and not-for-profit institutions.

Frequency: On occasion.

Type of Response: Recordkeeping.

Number of Respondents: 128.

Number of Annual Responses: 128.

Estimated Time Per Responses: 5 minutes.

Total Burden Hours: 11.

Total Annualized Capital/Startup Costs: $0.

Total Annual Costs (operating/maintaining systems or purchasing services): $0.

Description: Prohibited Transaction Class Exemption 90-1 provides an exemption from certain provisions of the Employee Retirement Income Security Act of 1974 (ERISA) for certain transactions involving insurance company pooled separate accounts in which employee benefit plans participate and which are otherwise prohibited by ERISA. Specifically, the exemption allows persons who are parties in interest to a plan that invests in a pooled separate account, such as a service provider, to engage in transactions with the separate account if the plan's participation in the separate account does not exceed specified limits. This ICR covers the recordkeeping requirements for insurance companies.

Agency: Employee Benefits Security Administration (EBSA).

Type of Review: Extension of a currently approved collection.

Title: Foreign Exchange Transactions; Prohibited Transaction Class Exemption 94-20.

OMB Number: 1210-0085.

Affected Public: Business or other-for profit; individuals or households; and not-for-profit institutions.

Frequency: On occasion.

Type of Response: Recordkeeping.

Number of Respondents: 130.

Number of Annual Responses: 650.

Estimated Time Per Responses: 5 minutes.

Total Burden Hours: 54.

Total Annualized Capital/Startup Costs: $0.

Total Annual Costs (operating/maintaining systems or purchasing services): $0.

Description: Prohibited Transaction Class Exemption 94-20 permits the purchase and sale of foreign currencies between an employee benefit plan and a bank or a broker-dealer or an affiliate thereof that is a party in interest with respect to such plan. In the absence of this exemption, certain aspects of these transactions could be prohibited by section 406(a) and 406(b) of the Employee Retirement Income Security Act of 1974. This ICR covers the disclosure and recordkeeping requirements for a bank, broker-dealer, or affiliate thereof.

Ira L. Mills,
Departmental Clearance Officer.

[FR Doc. 03-15343 Filed 6-17-03; 8:45 am]

BILLING CODE 4510-29-M